DEPARTMENT OF HEALTH AND HUMAN SERVICES

Office of the Secretary

Findings of Scientific Misconduct

AGENCY: Office of the Secretary, HHS.

ACTION: Notice.

SUMMARY: Notice is hereby given that on November 23, 2005, the Department of Health and Human Services (HHS) Debarring Official, on behalf of the Secretary of HHS, issued a final notice of debarment based on the scientific misconduct findings of the U.S. Public Health Service (PHS) in the following case:

Jessica Lee Grol, University of Pittsburgh: Based on the report of an investigation conducted by the University of Pittsburgh (UP) and additional analysis conducted by the Office of Research Integrity (ORI) in its oversight review, HHS found on October 17, 2005, that Ms. Grol, former Research Project Coordinator, Department of Neurological Surgery, UP, engaged in scientific misconduct by fabricating study research records for 15 subjects, including the patient interview data, the forms tracking data, and the medical record extraction data in a study on the management of cerebral aneurysms. The research was supported by National Institute of Neurological Disorders and Stroke (NINDS), National Institutes of Health (NIH), career development award K23 NS02159.

In a final decision dated November 23, 2005, the HHS Debarring Official, on behalf of the Secretary of HHS, issued the final debarment notice based on the PHS findings of scientific misconduct finding. The following actions have been implemented for a period of three (3) years, beginning on November 23, 2005:

(1) Ms. Grol has been debarred from any contracting or subcontracting with any agency of the United States Government and from eligibility for or involvement in nonprocurement programs of the United States Government as defined in the debarment regulations at 45 CFR part 76; and

(2) Ms. Grol is prohibited from serving in any advisory capacity to PHS, including but not limited to service on any PHS advisory committee, board, and/or peer review committee, or as a consultant.

FOR FURTHER INFORMATION CONTACT: Acting Director, Division of Research Investigations, Office of Research Integrity, 5515 Security Lane, Suite 700, Rockville, MD 20852, (240) 453-8800.

Chris B. Pascal,
Acting Director, Office of Research Integrity.

[FR Doc. E5-7470 Filed 12-16-05; 8:45 am]

BILLING CODE 4160-17-P